DEPARTMENT OF LABOR

Employment and Training Administration

[TA-W-74,700]

AT&T Services, Inc., Reynoldsburg, OH; Notice of Negative Determination on Reconsideration

On January 21, 2011, the Department of Labor issued an Affirmative Determination Regarding Application for Reconsideration for the workers and former workers of AT&T Services, Inc., Reynoldsburg, Ohio (subject firm). The Notice of determination was published in the Federal Register on February 2, 2011 (76 FR 5831). Workers supply customer care call services.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination was based on the findings that the worker separations are not attributable to increased imports of services by the subject firm or a shift in the supply of services by the subject firm to a foreign country. Rather, the investigation established that the worker separations are attributable to the subject firm shifting customer care call services to other facilities within the United States. The investigation also revealed the firm is not a supplier or downstream producer to a firm that employed a worker group eligible to apply for Trade Adjustment Assistance (TAA).

In the request for reconsideration, the petitioners alleged that the subject firm has shifted services to a foreign country.

During the reconsideration, the Department received information that shows that AT&T Services, Inc. (and not AT&T) is the appropriate name of the firm, and the heading has been changed to properly reflect the firm's name.

Information obtained during the reconsideration investigation confirmed that all of the workers who worked at the subject firm are referred to as “Legacy T workers” and “Customer Sales and Service Specialists (CSSS)”; that none of the services previously supplied by the subject firm (or like or directly competitive services) was outsourced to a foreign country; and that AT&T managers did not train any call center managers in India. Rather, work previously performed at the subject firm was consolidated into three other AT&T call centers within the United States.

Conclusion

After reconsideration, I affirm the original notice of negative determination of eligibility to apply for worker adjustment assistance for workers and former workers of AT&T Services, Inc., Reynoldsburg, Ohio.

Signed in Washington, DC, on this 2nd day of May 2011.
Del Min Amy Chen,
Certifying Officer, Office of Trade Adjustment Assistance.

[FR Doc. 2011-11637 Filed 5-11-11; 8:45 am]

BILLING CODE 4510-FN-P